DEPARTMENT OF EDUCATION

Submission for OMB Review; Comment Request

AGENCY: Department of Education.

ACTION: Correction notice.

SUMMARY: On April 12, 2004, the Department of Education published a 60-day public comment period notice in the Federal Register (Page 19170, Column 3) for the information collection, “Report of Children with Disabilities Receiving Special Education under Part B of the Individuals With Disabilities Education Act (IDEA-B)”. The Type of Review is hereby corrected from Reinstatement to Extension.

Dated: April 13, 2004.
Angela C. Arrington,
Regulatory Information Management Group, Office of the Chief Information Officer.

[FR Doc. 04-8744 Filed 4-16-04; 8:45 am]

BILLING CODE 4000-01-P